DEPARTMENT OF EDUCATION

[CFDA Nos. 84.938B and 84.938C]

Grants and Cooperative Agreements; Availability

AGENCY: Office of Elementary and Secondary Education, Department of Education.

ACTION: Notice announcing availability of funds and application deadline for the Assistance for Homeless Youth program and the Emergency Impact Aid for Displaced Students program under sections 106 and 107 of the Hurricane Education Recovery Act, Division B, Title IV of Public Law 109-148.

SUMMARY: Under the Emergency Impact Aid for Displaced Students (Emergency Impact Aid) program (section 107 of the Hurricane Education Recovery Act, Division B, Title IV of Pub. L. 109-148 (the Act)), we will award grants to eligible State educational agencies (SEAs) to enable them to make emergency impact aid payments to eligible local educational agencies (LEAs) and eligible BIA-funded schools for the cost of educating public and nonpublic school students displaced by Hurricanes Katrina or Rita during school year 2005-2006. Under the Assistance for Homeless Youth program (section 106 of the Act), we will award grants to eligible SEAs to enable them to provide financial assistance to LEAs serving homeless children and youth displaced by Hurricanes Katrina or Rita in order to address the educational and related needs of these students in a manner consistent with section 723 of the McKinney-Vento Homeless Assistance Act.

An SEA will not apply separately for funding under the Emergency Impact Aid and Assistance for Homeless Youth programs. Rather, an SEA will submit a single application that covers both programs. The data that the SEA provides in its application will be used to determine allocations under both the Emergency Impact Aid program and the Assistance for Homeless Youth program. In this notice, we announce the availability of funds under the two programs and establish the deadline for submission of the single SEA grant application.

SEA Application Deadline: February 2, 2006.

SUPPLEMENTARY INFORMATION: There is available to SEAs under the Emergency Impact Aid program a total of $645 million and under the Assistance for Homeless Youth program a total of $5 million. We will use the data on the numbers of displaced public and nonpublic students that the Department is collecting under this application to determine the amount of funding that an SEA receives under the Emergency Impact Aid program.

Under the Assistance for Homeless Youth program, the Department is authorized to disburse funding to SEAs based on demonstrated need, as determined by the Secretary. The Secretary believes that the data that we are collecting under this application provides a reasonable and appropriate basis not only for allocating funds under the Emergency Impact Aid program, but also for determining the relative needs of SEAs for funding for public school students under the Assistance for Homeless Youth program. Therefore, in order to minimize the burden on SEAs, we will use data on the numbers of displaced public school students that the Department is collecting under this application to make allocations under the Assistance for Homeless Youth program.

Available Funds under the Emergency Impact Aid program: $645,000,000.

Available Funds under the Assistance for Homeless Youth program: $5,000,000.

Period of Fund Availability under the Emergency Impact Aid program: SEAs, LEAs, and BIA-funded schools must obligate funds received under section 107 of the Act by July 31, 2006. The SEA must return to the Department any funds that are not obligated by SEAs, LEAs, or BIA-funded schools by this deadline.

Period of Fund Availability under the Assistance for Homeless Youth program: LEAs have until September 30, 2007 to obligate funds received under section 106 of the Act. We strongly encourage SEAs to make these funds available to LEAs at the earliest possible date. Furthermore, we strongly encourage LEAs that receive assistance under this program to obligate the funds in a timely fashion to address the immediate needs of homeless students displaced by Hurricanes Katrina or Rita.

LEA Application Deadline under the Emergency Impact Aid program: For the Emergency Impact Aid program, the Act requires LEAs to apply to their SEAs for funds no later than 14 days after the date of publication of this notice (i.e., no later than January 26, 2006.

LEA Application Deadline under the Assistance for Homeless Youth program: There is no statutory deadline for LEA applications under this program. Rather, each SEA that receives funding under the Assistance for Homeless Youth program will set a reasonable deadline for the submission of LEA applications. The SEA will distribute funds to LEAs based on demonstrated need, for the purposes of carrying out section 723 of the McKinney-Vento Homeless Assistance Act.

Student Enrollment Data: In the application for SEA funding, we request quarterly data on the numbers of displaced students enrolled in public, nonpublic, and BIA-funded schools as of four different count dates. SEAs will report separate counts of students without disabilities and students with disabilities. SEAs are required to submit data for the first quarterly count in the initial applications. The Department encourages SEAs to provide enrollment data for the first two quarters of the 2005-2006 school year (i.e., the two quarters that will have passed as of the date the SEA applications are due) in the initial applications. SEAs and LEAs that meet the initial deadlines may provide enrollment data for the subsequent quarters of the 2005-2006 school year at later dates.

We will use the enrollment data that are included in the SEA application to make initial payments under the Emergency Impact Aid program. In addition, we intend to use a portion of this data to make allocations under the Assistance for Homeless Youth program. Specifically, we intend to use the data on displaced public school students during the first two quarters, as reported in the SEA applications, to make final allocations under the Assistance for Homeless Youth program.

We also are aware that it may take some time for SEAs and LEAs to count, retroactively for the first and second quarters of the 2005-2006 school year, all students who may have now moved to other States or districts. Therefore, SEAs and LEAs that meet these specified timelines may make upward or downward revisions to their initial child counts in the event that they collect more satisfactory data that were not available at the time of their initial application submission. If the Secretary determines that an SEA has received an initial payment that is less than or in excess of what it should have received under the Emergency Impact Aid program for any quarter, the Secretary will make appropriate upward or downward revisions to subsequent payments that the SEA is eligible to receive this year. If the SEA is not eligible for subsequent payments, the SEA must promptly refund the amount of any overpayment to the Secretary. SEAs must submit any application amendments affecting allocations under the Emergency Impact Aid program to the Department no later than April 30, 2006.

Given the much lower funding level under the Assistance to Homeless Youth program, however, we do not intend to make multiple payments under that program or to use revised data to make adjustments to allocations under the program.

Other Requirements: LEAs must make Emergency Impact Aid payments to accounts on behalf of displaced nonpublic school students within 14 calendar days of receiving payments from the SEAs.

The Secretary may solicit from any applicant at any time during the respective periods of availability additional information needed to process an application for either program. In addition, all displaced public school students included in the counts in the SEA application must participate in State accountability systems consistent with the guidance letter to States from Secretary Margaret Spellings on September 29, 2005. (http://www.ed.gov/policy/elsec/guid/secletter/050929.html)

Waiver of Proposed Rulemaking: Under the Administrative Procedure Act (APA) (5 U.S.C. 553), the Department generally offers interested parties the opportunity to comment on proposed program requirements. Section 437(d)(2) of the General Education Provisions Act (20 U.S.C. 1232(d)(2)), however, allows the Secretary to exempt from rulemaking requirements regulations where the Secretary determines that conducting rulemaking will cause extreme hardship to the intended beneficiaries of the program or programs affected by the regulations.

The Secretary has determined that conducting rulemaking for the Assistance for Homeless Youth and Emergency Impact Aid programs, including the procedures permitting SEAs and LEAs to amend their applications to submit revised student count data and allowing for upward or downward adjustment of subsequent payments under the Emergency Impact Aid program and the procedures for awarding funds under the Assistance for Homeless Youth program, would cause extreme hardship to the beneficiaries of these programs for several significant reasons. The Act was signed into law on December 30, 2005, and specifies very tight timelines that SEAs and LEAs must meet to receive assistance under the Emergency Impact Aid program. Specifically, the Act requires the collection and submission of extremely time-critical student data and related information in applications from SEAs that will reflect data from LEAs, BIA-funded schools, and parents of displaced nonpublic school children. The Emergency Impact Aid program's purpose is to provide immediate aid for the costs related to the education of these displaced students for the 2005-2006 school year, and the Act further requires that the recipients obligate all funds by the end of 2005-2006 school year.

Furthermore, SEAs and LEAs throughout the country have tremendous needs and expenses related to educating homeless students displaced by Hurricanes Katrina and Rita. It is essential, therefore, that the Department also award funding under the Assistance for Homeless Youth program at the earliest possible date. Therefore, in order to avoid further harm and hardship to applicants under either program and make timely grant awards, the Secretary is waiving rulemaking for these one-time programs under the Act.

Electronic Submission of Applications: An eligible SEA that seeks funding under the Assistance for Homeless Youth program and the Emergency Impact Aid program, as authorized under sections 106 and 107 of the Act, must submit its application to the Department on or before February 2, 2006, no later than 4:30 p.m., Washington, DC time. You must submit your initial application electronically using the Department's Electronic Grant Application System (e-Application) available through the Department's e-Grants system. You may not e-mail an electronic copy of a grant application to us.

You can access the electronic application for the Assistance for Homeless Youth and Emergency Impact Aid programs at: http://e-grants.ed.gov.

Once you access this site, you will receive specific instructions regarding the information to include in your application. The regular hours of operation of the e-Application Web site are 6 a.m. Monday until 7 p.m. Wednesday; and 6 a.m. Thursday until midnight, Saturday (Washington, DC time). Please note that the system is unavailable on Sundays.

FOR FURTHER INFORMATION CONTACT: For the Emergency Impact Aid program: Ms. Catherine Schagh, Director, Impact Aid Program, U.S. Department of Education, 400 Maryland Avenue, SW., Washington, DC 20202-6244. Telephone: (202) 260-3858 or via the Internet: Impact.Aid@ed.gov. For the Assistance for Homeless Youth program: Mr. Gary Rutkin, Program Officer, Homeless Children and Youth Program, U.S. Department of Education, 400 Maryland Avenue, SW., Washington, DC 20202-6244. Telephone: (202) 260-4412 or via the Internet: gary.rutkin@ed.gov.

If you use a telecommunications device for the deaf (TDD), you may call the Federal Relay Service (FRS) at 1-800-877-8339. Individuals with disabilities may obtain the application package in an alternative format (e.g., Braille, large print, audiotape, or computer diskette) on request to one of the contact persons listed in this section.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: Division B, Title IV of Pub. L. 109-148.

Dated: January 10, 2006.
Henry L. Johnson,
Assistant Secretary for Elementary and Secondary Education.

[FR Doc. 06-327 Filed 1-10-06; 12:50 pm]

BILLING CODE 4000-01-P